ENVIRONMENTAL PROTECTION AGENCY

40 CFR Part 300

[EPA-HQ-SFUND-1983-0002; FRL-9978-04-Region 2]

National Oil and Hazardous Substances Pollution Contingency Plan; National Priorities List: Deletion of the Fulton Terminals Superfund Site

AGENCY: Environmental Protection Agency.

ACTION: Proposed rule; notice of intent to delete.

SUMMARY: The Fulton Terminals site (Site), located in the City of Fulton, Oswego County, New York, originally consisted of an approximately 1.5-acre “On-Property” area, bounded on the west by First Street, on the south by Shaw Street, on the east by New York State Route 481, and on the north by a warehouse, and an “Off-Property” area, defined by the area between the On-Property area's western property boundary to the Oswego River (approximately 50 feet). The On-Property area was deleted from the National Priorities List (NPL) on April 6, 2015 (80 FR 5957). The Off-Property area remained on the NPL because residual groundwater contamination was still present. Because the groundwater in the Off-Property area has achieved the cleanup levels, the U.S. Environmental Protection Agency (EPA) is issuing this Notice of Intent to Delete (NOID) the Off-Property area from the NPL and requests public comments on this proposed action.

DATES: Comments must be received by June 20, 2018.

ADDRESSES: Submit your comments, identified by Docket ID No. EPA-HQ-SFUND-1983-0002, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Christos Tsiamis, Remedial Project Manager, Emergency and Remedial Response Division, U.S. Environmental Protection Agency, 290 Broadway, 20th Floor, New York, NY 10007-1866, 212-637-4257, or tsiamis.christos@epa.gov.

SUPPLEMENTARY INFORMATION: Because residual groundwater contamination (cis-1,2-dichloroethene [DCE] and vinyl chloride [VC]) was still present in the Off-Property area, this area remained on the NPL, and groundwater monitoring and five-year reviews were still required.

Groundwater samples were collected from the Off-Property area in July 2016, June 2017, and September 2017 and they were analyzed for cis-1,2-DCE and VC. The reported concentrations of these constituents detected in the analyses of these samples were all below the cleanup levels, with two of the three being “non-detect” (i.e., concentrations were below the laboratory detection limits of 0.5 micrograms per liter). Based on an analysis of all the groundwater monitoring wells and associated contaminant-specific data, it was concluded that the groundwater remedy has achieved the cleanup levels selected for the Site and data analysis indicates that the contaminant levels in the groundwater will remain below these standards. Therefore, the EPA has determined that the response action is completed and that no further monitoring or five-year reviews at the Site are necessary.

The NPL, promulgated pursuant to Section 105 of the Comprehensive Environmental Response, Compensation, and Liability Act (CERCLA) of 1980, as amended, is an appendix of the National Oil and Hazardous Substances Pollution Contingency Plan. The EPA and the State of New York, through the New York State Department of Environmental Conservation (NYSDEC), have determined that all appropriate response actions under CERCLA have been completed at the Site and that it no longer poses a threat to public health or the environment. Therefore, the EPA and NYSDEC have concluded that this NOID is appropriate. However, this deletion does not preclude future actions under Superfund should future conditions warrant such action.

In the “Rules and Regulations” Section of today's Federal Register, the EPA is publishing a direct final Notice of Deletion (NOD) of the Site without prior NOID because the EPA views this as a noncontroversial revision and anticipates no adverse comment. The EPA has explained its reasons for this deletion in the preamble to the direct final NOD. If the EPA receives no adverse comment(s) on this deletion action, the EPA will proceed with the deletion without further action on this NOID. If the EPA receives adverse comment(s), the EPA will withdraw the direct final NOD, and it will not take effect. The EPA will, as appropriate, address all public comments in a subsequent final NOD based on this NOID. The EPA will not institute a second comment period on this NOID. Any parties interested in commenting must do so at this time.

For additional information, see the direct final NOD, which is in the “Rules” section of this Federal Register.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: April 19, 2018.
Peter D. Lopez,
Regional Administrator, EPA Region 2.

[FR Doc. 2018-10800 Filed 5-18-18; 8:45 am]

BILLING CODE 6560-50-P